DEPARTMENT OF COMMERCE

Foreign-Trade Zones Board

[Docket 13-2011]

Foreign-Trade Zone 182—Fort Wayne, IN, Application for Reorganization Under Alternative Site Framework

An application has been submitted to the Foreign-Trade Zones (FTZ) Board (the Board) by the City of Fort Wayne, grantee of FTZ 182, requesting authority to reorganize the zone under the alternative site framework (ASF) adopted by the Board (74 FR 1170, 1/12/09 (correction 74 FR 3987, 1/22/09); 75 FR 71069-71070, 11/22/10). The ASF is an option for grantees for the establishment or reorganization of general-purpose zones and can permit significantly greater flexibility in the designation of new “usage-driven” FTZ sites for operators/users located within a grantee's “service area” in the context of the Board's standard 2,000-acre activation limit for a general-purpose zone project. The application was submitted pursuant to the Foreign-Trade Zones Act, as amended (19 U.S.C. 81a-81u), and the regulations of the Board (15 CFR part 400). It was formally filed on February 18, 2011.

FTZ 182 was approved by the Board on December 23, 1991 (Board Order 549, 57 FR 1450, 1/14/1992) and expanded on October 14, 1997 (Board Order 928, 62 FR 55573, 10/27/1997).

The current zone project includes the following sites: Site 1 (0.37 acres)—315 E. Wallace Street, Fort Wayne (Allen County); Site 2 (0.4 acres)—2122 Bremer Road, Fort Wayne (Allen County); Site 3 (443 acres)—Fort Wayne International Airport, 3801 Ferguson Road, Fort Wayne (Allen County); and, Site 4 (41 acres)—Riverfork Industrial Park, 1515 Riverfork Drive West, Huntington (Huntington County).

The grantee's proposed service area under the ASF would be Adams, Allen, DeKalb, Huntington, Noble, Wabash, Wells and Whitley Counties, Indiana, as described in the application. If approved, the grantee would be able to serve sites throughout the service area based on companies' needs for FTZ designation. The proposed service area is within and adjacent to the Fort Wayne Customs and Border Protection port of entry.

The applicant is requesting authority to reorganize its zone project to include existing Site 3 as a “magnet” site and Site 1 as a “usage driven” site. The ASF allows for the possible exemption of one magnet site from the “sunset” time limits that generally apply to sites under the ASF, and the applicant proposes that Site 3 be so exempted. The applicant is also requesting that Sites 2 and 4 be removed from the zone project.

In accordance with the Board's regulations, Elizabeth Whiteman of the FTZ Staff is designated examiner to evaluate and analyze the facts and information presented in the application and case record and to report findings and recommendations to the Board.

Public comment is invited from interested parties. Submissions (original and 3 copies) shall be addressed to the Board's Executive Secretary at the address below. The closing period for their receipt is April 25, 2011. Rebuttal comments in response to material submitted during the foregoing period may be submitted during the subsequent 15-day period to May 10, 2011.

A copy of the application will be available for public inspection at the Office of the Executive Secretary, Foreign-Trade Zones Board, Room 2111, U.S. Department of Commerce, 1401 Constitution Avenue, NW., Washington, DC 20230-0002, and in the “Reading Room” section of the Board's Web site, which is accessible via http://www.trade.gov/ftz. For further information, contact Elizabeth Whiteman at Elizabeth.Whiteman@trade.gov or (202) 482-0473.

Dated: February 18, 2011.
Andrew McGilvray,
Executive Secretary.

[FR Doc. 2011-4188 Filed 2-23-11; 8:45 am]

BILLING CODE 3510-DS-P